ENVIRONMENTAL PROTECTION AGENCY

40 CFR Part 52

[R06-OAR-2005-TX-0008; FRL-7936-8]

Approval and Promulgation of Air Quality Implementation Plans; Texas; Revisions To Control Volatile Organic Compound Emissions; Correction

AGENCY: Environmental Protection Agency (EPA).

ACTION: Final rule; correction.

SUMMARY: EPA issued a direct final rule on March 29, 2005, (70 FR 15769), that approved Texas State Implementation Plan (SIP) revisions. The approved revisions pertain to regulations to control volatile organic compound (VOC) emissions from solvent degreasing processes, cutback asphalt, and motor vehicle fuel dispensing facilities. The language in the March 29, 2005 Federal Register amended the table in 40 CFR 52.2270(c) titled “EPA Approved Regulations in the Texas SIP”. The amendatory language failed to: Update the table for control of vehicle refueling emissions (Stage II) at motor vehicle fuel dispensing facilities, and add a table heading for cutback asphalt regulations. This document corrects these two mistakes.

DATES: This correction is effective on July 13, 2005.

FOR FURTHER INFORMATION CONTACT: Carl Young, Air Planning Section (6PD-L), Environmental Protection Agency, Region 6, 1445 Ross Avenue, Suite 700, Dallas, Texas 75202-2733, telephone 214-665-6645; fax number 214-665-7263; e-mail address young.carl@epa.gov.

SUPPLEMENTARY INFORMATION: EPA issued a direct final rule on March 29, 2005, (70 FR 15769), that approved Texas SIP revisions. The revisions pertain to regulations to control VOC emissions from solvent degreasing processes, cutback asphalt, and motor vehicle fuel dispensing facilities. The revisions approved were §§ 115.227, 115.229, 115.239-115.249, 115.412, 115.413, 115.415-115.417, 115.419, 115.512, 115.516, 115.517, and 115.519 in 30 TAC Chapter 115, Control of Air Pollution from Volatile Organic Compounds. The language in the March 29, 2005 Federal Register amended the table in 40 CFR 52.2270(c) titled “EPA Approved Regulations in the Texas SIP” under Chapter 115 (Reg 5). The amendatory language (1) Added a new heading titled “Division 1: Degreasing Processes” in Subchapter E: Solvent-Using Processes, and (2) updated the table entries for Sections 115.227, 115.229, 115.239, 115.412, 115.413, 115.415, 115.416, 115.417, 115.419, 115.512, 115.516, 115.517, and 115.519. The amendatory language failed to update table entries for Sections 115.240-115.249, Control of Vehicle Refueling Emissions (Stage II) at Motor Vehicle Fuel Dispensing. The amendatory language also failed to update the table with an additional heading for “Cutback Asphalt”. This document corrects these two mistakes.

List of Subjects in 40 CFR Part 52

Environmental protection, Air pollution control, Intergovernmental relations, Ozone, Reporting and recordkeeping requirements, Volatile organic compounds.

Dated: June 24, 2005.
Richard E. Greene,
Regional Administrator, Region 6.

40 CFR part 52 is amended as follows:

PART 52—[AMENDED]

1. The authority citation for part 52 continues to read as follows:

Authority: 42 U.S.C. 7402 et seq.

Subpart SS—Texas

2. The table in § 52.2270(c) entitled “EPA Approved Regulations in the Texas SIP” under Chapter 115 (Reg 5) is amended by:

a. Adding a new centered heading “Division 1: Cutback Asphalt” immediately following the centered heading “Subchapter F: Miscellaneous Industrial Sources”;

b. Revising entries for Sections 115.240-115.249 in Subchapter C, Division 4 to read as follows:

§ 52.2270 Identification of plan.

* * * * *

(c) * * *

EPA-Approved Regulations in the Texas SIP
State citation | Title/subject | State approval/submittal date | EPA approval date | Explanation
* * * * * * *
Chapter 115 (Reg 5)—Control of Air Pollution From Volatile Organic Compounds
* * * * * * *
Subchapter C: Volatile Organic Compound Transfer Operations
* * * * * * *
Division 4: Control of Vehicle Refueling Emissions (Stage II) at Motor Vehicle Fuel Dispensing Facilities
Section 115.240 | Stage II Vapor Recovery Definitions and List of California Air Resources Board Certified Stage II Equipment | 11/6/02 | 3/29/05, 70 FR 15773
Section 115.241 | Emission Specifications | 11/6/02 | 3/29/05, 70 FR 15773
Section 155.242 | Control Requirements | 11/6/02 | 3/29/05, 70 FR 15773
Section 115.243 | Alternate Control Requirements | 11/6/02 | 3/29/05, 70 FR 15773
Section 115.244. | Inspection Requirements | 11/6/02 | 3/29/05, 70 FR 15773
Section 115.245 | Testing Requirements | 11/6/02 | 3/29/05, 70 FR 15773
Section 115.246 | Recordkeeping Requirements | 11/6/02 | 3/29/05, 70 FR 15773
Section 115.247 | Exemptions | 11/6/02 | 3/29/05, 70 FR 15773
Section 115.248 | Training Requirements | 11/6/02 | 3/29/05, 70 FR 15773
Section 115.249 | Counties and Compliance Schedules | 11/6/02 | 3/29/05, 70 FR 15773
* * * * * * *

[FR Doc. 05-13695 Filed 7-12-05; 8:45 am]

BILLING CODE 6560-50-P